DEPARTMENT OF ENERGY

Federal Energy Regulatory Commission

Combined Notice of Filings #1

Take notice that the Commission received the following electric rate filings:

Docket Numbers: ER10-1107-005.

Applicants: Pacific Gas and Electric Company.

Description: Updated Market Power Analysis for the Southwest Region of Pacific Gas and Electric Company.

Filed Date: 12/31/15.

Accession Number: 20151231-5083.

Comments Due: 5 p.m. ET 2/29/16.

Docket Numbers: ER10-2739-012; ER14-2499-003; ER10-2755-010; ER10-2751-007; ER10-2743-007.

Applicants: LS Power Marketing, LLC, Oneta Power, LLC, Las Vegas Power Company, LLC, Renaissance Power, L.L.C., Bluegrass Generation Company, L.L.C.

Description: Updated Market Power Analysis in Southwest Power Pool Region of the LS Power Development, LLC subsidiaries.

Filed Date: 12/30/15.

Accession Number: 20151230-5329.

Comments Due: 5 p.m. ET 2/29/16.

Docket Numbers: ER10-2913-013; ER13-1791-008; ER13-1746-011; ER13-1799-008; ER13-1801- 008; ER13-1802-008; ER10-2916-013; ER10-2915-013; ER12-1525-014; ER12-2019-012; ER10-2266-005; ER12-2398-013; ER11-3459-013; ER10-2931-014; ER13-1965-011; ER10-2969-013; ER11-4351-008; ER11-4308-018; ER11- 2805-017; ER10-1580-015; ER10-2382-007; ER11-2856-019; ER10-2356-007; ER10-2357-007; ER13-2107-009; ER13-2020-009; ER13-2050-009; ER14-2820-007; ER14-2821-007; ER11-2857-019; ER10-2359-007; ER10-2360-007; ER10-2369-006; ER10-2947-013; ER10-2381-007; ER10-2575-007; ER10-2361-007.

Applicants: NRG Energy Center Paxton LLC, NRG Florida LP, NRG Marsh Landing LLC, NRG Potomac River LLC, NRG Power Midwest LP, NRG REMA LLC, NRG Rockford LLC, NRG Rockford II LLC, NRG Solar Alpine LLC, NRG Solar Avra Valley LLC, NRG Solar Blythe LLC, NRG Solar Borrego I LLC, NRG Solar Roadrunner LLC, NRG Sterlington Power LLC, NRG Wholesale Generation LP, Oswego Harbor Power LLC, Pinnacle Wind, LLC, Reliant Energy Northeast LLC, RRI Energy Services, LLC, Saguaro Power Company, a Limited Partnership, San Juan Mesa Wind Project, LLC, Sand Drag LLC, Sierra Wind, LLC, Sleeping Bear, LLC, Solar Partners I, LLC, Solar Partners II, LLC, Solar Partners VIII, LLC, Spring Canyon Energy II LLC, Spring Canyon Energy III LLC, Sun City Project LLC, Sunrise Power Company, LLC, TAIR Windfarm, LLC, Taloga Wind, LLC, Vienna Power LLC, Walnut Creek Energy, LLC, Watson Cogeneration Company, Wildorado Wind, LLC.

Description: Notice of Change in Status of NRG MBR Sellers [Part 3 of 3].

Filed Date: 12/30/15.

Accession Number: 20151230-5355.

Comments Due: 5 p.m. ET 1/20/16.

Docket Numbers: ER12-2499-014; ER12-2498-014; ER13-764-014; ER11-4055-006; ER12-1566-008; ER14-1548-006; ER12-1470-006; ER11-3987-009; ER10-1290-007; ER14-474-005; ER14-1775-004; ER10-3026-006.

Applicants: Alpaugh North, LLC, Alpaugh 50, LLC, CED White River Solar, LLC, Copper Mountain Solar 1, LLC, Copper Mountain Solar 2, LLC, Copper Mountain Solar 3, LLC, Energia Sierra Juarez U.S., LLC, Mesquite Solar 1, LLC, San Diego Gas & Electric Company, Sempra Generation, LLC, SEP II, LLC, Termoelectrica U.S., LLC.

Description: Updated Market Power Analysis for Southwest Region of the SDG&E Sellers.

Filed Date: 12/30/15.

Accession Number: 20151230-5332.

Comments Due: 5 p.m. ET 2/29/16.

Docket Numbers: ER16-287-000.

Applicants: BIF III Holtwood LLC.

Description: Clarification to November 6, 2015 BIF III Holtwood LLC tariff filing.

Filed Date: 12/30/15.

Accession Number: 20151230-5346.

Comments Due: 5 p.m. ET 1/20/16.

Docket Numbers: ER16-670-000.

Applicants: New England Power Pool Participants Committee.

Description: Section 205(d) Rate Filing: Dec 30 2015 Membership Filing to be effective 1/1/2016.

Filed Date: 12/30/15.

Accession Number: 20151230-5314.

Comments Due: 5 p.m. ET 1/20/16.

Docket Numbers: ER16-671-000.

Applicants: Golden Spread Electric Cooperative, Inc.

Description: Market-Based Triennial Review Filing: Updated Market Power Analysis to be effective 3/1/2014.

Filed Date: 12/31/15.

Accession Number: 20151231-5070.

Comments Due: 5 p.m. ET 2/29/16.

Docket Numbers: ER16-672-000.

Applicants: Golden Spread Panhandle Wind Ranch, LLC.

Description: Market-Based Triennial Review Filing: Updated Market Power Analysis to be effective 3/1/2014.

Filed Date: 12/31/15.

Accession Number: 20151231-5072.

Comments Due: 5 p.m. ET 2/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2015.
Nathaniel J. Davis, Sr.,
Deputy Secretary.

[FR Doc. 2016-00094 Filed 1-7-16; 8:45 am]

BILLING CODE 6717-01-P